OFFICE OF MANAGEMENT AND BUDGET

Information Collection Activities: Proposed Collection; Comment Request

AGENCY: Office of Management and Budget.

ACTION: Notice.

SUMMARY: In accordance with the Paperwork Reduction Act (44 U.S.C. 3501 et seq.), the Office of Management and Budget (OMB) invites the general public and Federal agencies to comment on the renewal without change of four (4) standard forms: SF-269, Financial Status Report (Long Form); SF-269A, Financial Status Report (Short Form); SF-272, Federal Cash Transactions Report; and SF-272A, Federal Cash Transactions Report. OMB anticipates that this will be the last renewal of these forms. By no later than October 1, 2009, each federal agency must transition from the SF-269, SF-269A, SF-272, and SF-272A to the Federal Financial Report (FFR), by requiring recipients to use the FFR for all financial reports submitted after the date it makes the transition. In making the transition, an agency would incorporate the requirement to use the FFR into terms and conditions of new and ongoing grant and cooperative agreement awards, State plans, and/or program regulations that specify financial reporting requirements.

DATES: Comments must be submitted on or before March 5, 2009.

ADDRESSES: Due to potential delays in OMB's receipt and processing of mail sent through the U.S. Postal Service, we encourage respondents to submit comments electronically to ensure timely receipt. We cannot guarantee that comments mailed will be received before the comment closing date.

Comments may be sent via http://www.regulations.gov—a Federal E-Government Web site that allows the public to find, review, and submit comments on documents that agencies have published in the Federal Register and that are open for comment. Simply type the form number in quotes in the Comment or Submission search box, click Go, and follow the instructions for submitting comments. Comments received by the date specified above will be included as part of the official record.

Comments may be e-mailed to: mpridgen@omb.eop.gov. Please include the form number in the subject line of your e-mail message. Also, please include the full body of your comments in the text of the electronic message, as well as in an attachment. Please include your name, title, organization, postal address, telephone number, and e-mail address in the text of the message. Comments may also be submitted via facsimile to (202) 395-3952.

Comments may be mailed to Marguerite Pridgen, Office of Federal Financial Management, Office of Management and Budget, Room 6025, New Executive Office Building, 725 17th Street, NW., Washington, DC 20503.

FOR FURTHER INFORMATION CONTACT: Marguerite Pridgen, Office of Federal Financial Management, Office of Management and Budget, telephone (202) 395-7844 (direct) or (202) 395-3993 (main office) and e-mail: mpridgen@omb.eop.gov. The standard forms can be downloaded from the OMB Grants Management home page (http://www.whitehouse.gov/omb/grants/grants_forms.html).

OMB Control No.: 0348-0039.

Title: Financial Status Report (Long Form).

Form No.: SF-269.

Type of Review: Extension of a currently approved collection.

Respondents: States, Local Governments, Universities, Non-Profit Organizations.

Number of Responses: 100,000.

Estimated Time per Response: 60 minutes.

Needs and Uses: The SF-269 is used by federal grant recipients to report the financial status of grant funds. The Federal awarding agencies use information reported on this form for the award and general management of Federal assistance program awards.

OMB Control No.: 0348-0038.

Title: Financial Status Report (Short Form).

Form No.: SF-269A.

Type of Review: Extension of a currently approved collection.

Respondents: States, Local Governments, Universities, Non-Profit Organizations.

Number of Responses: 100,000.

Estimated Time per Response: 60 minutes.

Needs and Uses: The SF-269A is used by federal grant recipients to report the financial status of grant funds. The Federal awarding agencies use information reported on this form for the award and general management of Federal assistance program awards.

OMB Control No.: 0348-0003.

Title: Federal Cash Transactions Report and Continuation Sheet.

Form Nos.: SF-272 and SF-272A.

Type of Review: Extension of a currently approved collection.

Respondents: States, Local Governments, Universities, Non-Profit Organizations.

Number of Responses: 100,000.

Estimated Time per Response: 60 minutes.

Needs and Uses: The SF-272 and SF-272A are used by federal grant recipients to report cash transactions using grant funds. The Federal awarding agencies use information reported on this form for the award and general management of Federal assistance program awards.

Office of Management and Budget.
Carrie Hug,
Chief, Financial Standards and Grants Branch, Office of Federal Financial Management.

[FR Doc. E9-2247 Filed 2-2-09; 8:45 am]

BILLING CODE 3110-01-P